FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than March 18, 2010.

A. Federal Reserve Bank of Richmond (A. Linwood Gill, III, Vice President) 701 East Byrd Street, Richmond, Virginia 23261-4528:

1. Community Bank Investors of America, LP, and FA Capital, LLC, both of Richmond, Virginia; to acquire additional voting shares, for a total of 49.99 percent of the voting shares of Progress Bank of Florida, Tampa, Florida. Comments regarding this application must be received not later than March 14, 2010.

B. Federal Reserve Bank of Chicago (Colette A. Fried, Assistant Vice President) 230 South LaSalle Street, Chicago, Illinois 60690-1414:

1. Chemical Financial Corporation, Midland, Michigan; to acquire 100 percent of the voting shares of O.A.K. Financial Corporation, Byron Center, Michigan, and thereby indirectly acquire voting shares of Byron Bank, Byron Center, Michigan.

C. Federal Reserve Bank of Dallas (E. Ann Worthy, Vice President) 2200 North Pearl Street, Dallas, Texas 75201-2272:

1. Bank4Texas Holdings, Inc., Chillicothe, Texas; to become a bank holding company by acquiring 100 percent of the voting shares of Northern Bancshares, Inc., and thereby indirectly acquire voting shares of The First National Bank of Chillicothe, both of Chillicothe, Texas.

D. Federal Reserve Bank of San Francisco (Kenneth Binning, Vice President, Applications and Enforcement) 101 Market Street, San Francisco, California 94105-1579:

1. Green Dot Corporation, Monrovia, California; to become a bank holding company by acquiring 100 percent of the voting shares of Bonneville, Bancorp, and thereby indirectly acquire voting shares of Bonneville Bank, both of Provo, Utah.

Board of Governors of the Federal Reserve System, February 16, 2010.
Robert deV. Frierson,
Deputy Secretary of the Board.

[FR Doc. 2010-3280 Filed 2-19-10; 8:45 am]

BILLING CODE 6210-01-S